DEPARTMENT OF THE TREASURY

Internal Revenue Service

Information Reporting Program Advisory Committee; Renewal of Charter

AGENCY: Internal Revenue Service (IRS), Treasury.

ACTION: Notice.

SUMMARY: The Charter for the Information Reporting Program Advisory Committee will renew for a two-year period beginning November 5, 2001.

FOR FURTHER INFORMATION CONTACT: Ms. Lorenza Wilds; National Public Liaison, 202-622-6440 (not a toll-free number).

SUPPLEMENTARY INFORMATION: Notice is hereby given pursuant to section 10(a)(2) of the Federal Advisory Committee Act, 5 U.S.C. App. (1988), and with the approval of the Secretary of the Treasury to announce the renewal of the Information Reporting Program Advisory Committee (IRPAC). The primary purpose of the Advisory Committee is to provide an organized forum for senior Internal Revenue Service executives and representatives of the public to consider relevant information reporting issues. As such, the IRPAC: (i) Conveys the public's perception of IRS activities; (ii) advises with respect to specific information reporting administration issues; (iii) provides constructive observations regarding current or proposed IRS policies, programs, and procedures; and (iv) proposes significant improvements in information reporting operations. Because each Operating Division relies on the Information Reporting Program, the IRS must ensure application of a coordinated approach when addressing information reporting issues. Therefore, acknowledging the critical role of information reporting, emphasizing its commitment to the Information Reporting Program, and as a measure of the IRPAC's importance, a centralized coordinating mechanism, the Information Reporting Program Policy Council (IRP Policy Council) was established to formulate and coordinate strategic and crosscutting information reporting issues. A counterpart to the IRPAC consisting of IRS executives from each Operating Division, the IRP Policy Council facilitates cross-divisional consistency in information reporting and provides strategic leadership for the Service-wide direction of the Information Reporting Program. In addition, the IRP Policy Council considers and prioritizes the recommendations of the IRPAC as part of the strategic planning process, and meets regularly with Committee members to identify and recommend strategic issues for consideration.

To accomplish its objective of close alignment with the needs and strategic goals of the IRS while remaining a strong external feedback mechanism, it is essential that IRPAC members comprise a diverse group of dedicated and talented professionals who bring substantial disparate experience and backgrounds to bear on Committee activities. Membership is balanced to include, representation from the taxpaying public, the tax professional community, small and large businesses, state tax administration, and the payroll community.

Dated: November 5, 2001.
Nancy A. Thoma,
Designated Federal Official, Acting Director, National Public Liaison.

[FR Doc. 01-28537 Filed 11-13-01; 8:45 am]

BILLING CODE 4830-01-P